ENVIRONMENTAL PROTECTION AGENCY

[ER-FRL-6645-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 4, 2003 (68 FR 16511).

Draft EISs

ERP No. D-AFS-G65090-NM Rating LO, Magdelena Ridge Observatory Project, Construct and Operate an Observatory in the Magdelena Mountains, Cibola National Forest, Magdelena Ranger District, Socorro County, NM.

Summary: EPA had no objection to the preferred alternative.

ERP No. D-DOE-L09817-WA Rating EC2, BP Cherry Point Cogeneration Project, To Build a 720-megawatt Gas-Fired Combined Cycle Cogeneration Facility, Energy Facility Site Evaluation Council (EFSEC), Whatcom County, WA.

Summary: EPA expressed concerns that proposed mitigation would not adequately offset project-related impacts to wetlands. EPA recommended that the additional wetland mitigation be developed along with a demonstration that the applicant-proposed project represents the least environmentally damaging practicable alternative. EPA also recommended that the Bonneville Power Administration and the Corps of Engineers consult with the governments of affected tribes, pursuant to Executive Order 13175.

ERP No. D-NOA-L91019-00 Rating EC2, Pacific Coast Groundfish Fishery Management Plan (FMP) Amendment 16-2, Rebuilding Plans for: Darkblotched Rockfish, Pacific Ocean Perch, Canary Rockfish, and Lingcod, Maximum Sustainable Yield (MSY) Magnuson-Stevens Fishery Conservation and Management Act, WA, OR, CA and Boundary of U.S. EEZ.

Summary: EPA expressed concerns on bycatch information, impacts on habitat, and enforcement of depth-based management restrictions.

ERP No. D-USA-G11042-LA Rating EC2, 2nd Armored Cavalry Regiment Transformation and Installation Mission Support, Joint Readiness Training Center (JRTC) Stryker Brigade Combat Team, Long-Term Military Training Use of Kisatchie National Forest Lands, Fort Polk, LA.

Summary: EPA expressed environmental concerns and requested additional information on mitigation measure to reduce sediment loadings, mapping wetlands, and forest restoration.

ERP No. D-USA-L10005-AK Rating EC2, Programmatic EIS—Army Transformation of the 172nd Infantry Brigade (Separate) to a Stryker Brigade Combat Team (SBCT), Propose Location Forts Wainwright and Richardson, AK.

Summary: EPA expressed concerns regarding impacts on natural resources from increased in live-fire training and maneuver training. EPA requested that the FEIS clarify impacts and include compensation information for natural resources.

ERP No. DS-FAA-K51039-CA Rating EC2, Los Angeles International Airport Proposed Master Plan Improvements, New Alternative, Enhanced Safety and Security Plan, Los Angeles County, CA.

Summary: EPA raised environmental concerns regarding emissions of criteria and hazardous air pollutants, especially emissions from auxiliary power units; the adequacy of measures to reduce air pollutant loading for this project, especially operational emissions; whether the project causes disproportionately high adverse effects on low-income or minority populations due to air pollution and mitigation for noise impacts by jet aircrafts.

Final EISs

ERP No. F-AFS-G65088-NM

Bluewater Ecosystem Management Project, Proposal to Initiate Vegetation Treatments to Restore Ponderosa Pine and Pinon-Juniper Stands to a Desired Condition, Cibola National Forest, Mt. Taylor Ranger District, McKinley and Cibola Counties, NM.

Summary: EPA had no objection to the selection of the preferred alternative.

ERP No. F-BIA-K60034-CA

Jamul Indian Village (Tribe) 101 Acre Fee-to-Trust Transfer and Casino Project, Implementation, San Diego County, CA.

Summary: No formal comment letter was sent to the preparing agency.

ERP No. F-BLM-K65251-CA

Santa Rosa and San Jacinto Mountains National Monument Management Plan, Implementation, Public Lands Management, Riverside County, CA.

Summary: EPA indicated that the FEIS satisfactorily responded to our DEIS comments. Therefore, EPA has no objections to the proposed action.

ERP No. F-NOA-E91012-00

Atlantic Surfclam and Ocean Quahog Fishery Management Plan Amendment 13, Implementation, US Exclusive Economic Zone along the Atlantic Seaboard from Maine through North Carolina.

Summary: EPA has no objections to the implementation of Amendment 13 but recommends using appropriate harvesting controls, and monitoring for gear effects on EFH.

Dated: November 10, 2003.
Joseph C. Montgomery,
Director, NEPA Compliance Division, Office of Federal Activities.

[FR Doc. 03-28571 Filed 11-13-03; 8:45 am]

BILLING CODE 6560-50-P